DEPARTMENT OF TRANSPORTATION

Federal Aviation Administration

92nd Meeting: RTCA Special Committee 159, Global Positioning Systems (GPS)

AGENCY: Federal Aviation Administration (FAA), U.S. Department of Transportation (DOT).

ACTION: Meeting Notice of RTCA Special Committee 159, RTCA Special Committee 159, Global Positioning Systems (GPS).

SUMMARY: The FAA is issuing this notice to advise the public of the ninety-second meeting of the RTCA Special Committee 159, Global Positioning Systems (GPS).

DATES: The meeting will be held October 6-10, 2014 from 9:00 a.m.-5:00 p.m. (unless stated otherwise).

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 159. The agenda will include the following:

Working Group Sessions

October 6

• Working Group 2, GPS/WAAS, ARINC & A4A Rooms.

October 7

• Working Group 2, GPS/WAAS, ARINC & A4A Rooms Rooms.

October 8

• Working Group 4, GPS/Precision Landing, MacIntosh-NBAA Room. Note location-NBAA, 1200 G Street NW., Suite 1100, Washington, DC 20005.

October 9

• Working Group 4, GPS/GPS/Precision Landing Guidance MacIntosh-NBAA Room and Colson Board Room.

• Morning—9:00-12:00/Noon p.m., Working Group 7, GPS/Antennas, ARINC & A4A Room.

• Afternoon—1:00-5:00 p.m., Working Group 6, GPS/Interference, ARINC & A4A Room.

October 10—Starting at 9:00 a.m.

• MacIntosh-NBAA & Colson Board Room.

• Chairman's Introductory Remarks.

• Approval of Summary of the Ninety- First Meeting held March 14, 2014, RTCA Paper No. 187-14/SC159-1019.

• Review Working Group (WG) Progress and Identify Issues for Resolution.

• GPS/3nd Civil Frequency (WG-1).

• GPS/WAAS (WG-2).

• GPS/GLONASS (WG-2A).

• GPS/Inertial (WG-2C).

• GPS/Precision Landing Guidance (WG-4).

• GPS/Airport Surface Surveillance (WG-5).

• GPS/Interference (WG-6).

• GPS/Antennas (WG-7).

• Review of EUROCAE Activities.

• Briefing—DOT's GPS Adjacent Band Compatibility Plan.

• Advance Receiver Autonomous Integrity Monitoring (ARAIM)—Discussion.

• Assignment/Review of Future Work.

• Other Business.

• Date and Place of Next Meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 8, 2014.
Mohannad Dawoud,
Management Analyst, NextGen, Business Operations Group, Federal Aviation Administration.

[FR Doc. 2014-21796 Filed 9-11-14; 8:45 am]

BILLING CODE 4910-13-P